DEPARTMENT OF ENERGY

Extension of Scoping Period for the Northern Pass Transmission Line Project Environmental Impact Statement

AGENCY: Department of Energy.

ACTION: Reopening of scoping period.

SUMMARY: The U.S. Department of Energy (DOE) is reopening the public scoping period for the Northern Pass Transmission Line Project Environmental Impact Statement (EIS) (DOE/EIS-0463). In anticipation of additional alternative route information being provided by Northern Pass, DOE is reopening the scoping period. DOE will determine the close of the scoping period once the additional routing information is received from Northern Pass, and DOE will provide at least 45 days for public review and scoping comments on any such routing information.

DATES: The reopened public scoping period starts with the publication of this notice in the Federal Register and will remain open until DOE provides further notice of its closing.

ADDRESSES: Comments on the scope of the EIS and requests to be added to the document mailing list should be addressed to: Brian Mills, Office of Electricity Delivery and Energy Reliability (OE-20), U.S. Department of Energy, 1000 Independence Avenue, SW., Washington, DC 20585; by electronic mail to Brian.Mills@hq.doe.gov; or by facsimile to 202-586-8008. For general information on the DOE NEPA process contact: Ms. Carol M. Borgstrom, Director, Office of NEPA Policy and Compliance (GC-54), U.S. Department of Energy, 1000 Independence Avenue, SW., Washington, DC 20585; by electronic mail at askNEPA@hq.doe.gov; by facsimile at 202-586-7031; or by phone at 202-586-4600, or leave a message at 800-472-2756.

FOR FURTHER INFORMATION CONTACT: For information on DOE's proposed action, contact Brian Mills by one of the methods listed in ADDRESSES above, or at 202-586-8267. For general information on the DOE NEPA process, contact Ms. Carol M. Borgstrom by one of the methods listed in ADDRESSES above. For information on the Forest Service's role as a cooperating agency, contact Tiffany Benna by electronic mail at tbenna@fs.fed.us; by phone at 603-536-6241; by facsimile at 603-536-3685; or by mail at 71 White Mountain Drive, Campton, NH 03223. For information on the Army Corps of Engineers' permit process, contact Erika Mark at 978-318-8250; by electronic mail at Erika.L.Mark@usace.army.mil; or by mail at 696 Virginia Road, Concord, MA 01742. For information on the EPA role in the EIS, contact Timothy L. Timmermann by electronic mail at timmermann.timothy@epa.gov; by phone at 617-918-1025; or by mail at 5 Post Office Square, Suite 100, Boston, MA 02109-3912. Information on the EIS also is available at DOE's Web site for the proposed action at http://www.northernpasseis.us.

SUPPLEMENTARY INFORMATION: On February 11, 2011, DOE announced in the Federal Register (76 FR 7828) its intention to prepare an EIS to assess the potential environmental impacts from its proposed action of granting a Presidential Permit to Northern Pass Transmission, LLC, to construct, operate, maintain, and connect a new electric transmission line across the U.S.-Canada border in northern New Hampshire. The EIS will address the potential environmental impacts from the proposed action, no action and the range of reasonable alternatives. The U.S. Forest Service, White Mountain National Forest, the Army Corps of Engineers, New England District, and the U.S. Environmental Protection Agency Region 1 are cooperating agencies.

DOE held seven public scoping meetings from March 14 to 20, 2011, in New Hampshire. The public scoping period closed on April 12, 2011. On April 15, 2011, DOE reopened the public scoping period until June 14, 2011, in response to public requests and to ensure that the public had ample opportunity to provide comments (76 FR 21338).

On April 12, 2011, Northern Pass submitted scoping comments stating that it was working to identify additional routing alternatives in the northern portion of the proposed route (the area within approximately 40 miles of the U.S.-Canada border). Northern Pass has not yet provided additional routing alternatives to DOE, but in anticipation of this information, DOE is reopening the public scoping period for an indefinite period. DOE will determine the close of the scoping period once any additional routing information is received from Northern Pass. DOE will announce in the Federal Register any additional proposed routing alternatives submitted by Northern Pass, the locations, dates and times of any additional scoping meetings, as well as the end of the scoping period. The scoping period will close no sooner than 45 days after DOE publishes the above notice in the Federal Register.

Issued in Washington, DC, on June 9, 2011.
Anthony J. Como,
Director, Permitting and Siting, Office of Electricity Delivery and Energy Reliability.

[FR Doc. 2011-14823 Filed 6-14-11; 8:45 am]

BILLING CODE 6450-01-P